DEPARTMENT OF COMMERCE

National Oceanic and Atmospheric Administration

RIN 0648-XF464

Nominations to the Marine Mammal Scientific Review Groups

AGENCY: National Marine Fisheries Service (NMFS), National Oceanic and Atmospheric Administration (NOAA), Commerce.

ACTION: Notice; request for nominations.

SUMMARY: As required by section 117(d) of the Marine Mammal Protection Act (MMPA), the Secretary of Commerce established three independent regional scientific review groups (SRGs) to provide advice on a range of marine mammal science and management issues. NMFS has conducted a membership review of the Alaska, Atlantic, and Pacific SRGs, and is soliciting nominations for new members to fill vacancies and gaps in expertise.

DATES: Nominations must be received by July 24, 2017.

ADDRESSES: Nominations can be emailed to Shannon.Bettridge@noaa.gov, or mailed to: Marine Mammal and Sea Turtle Conservation Division, Office of Protected Resources, National Marine Fisheries Service, 1315 East-West Highway, Silver Spring, MD 20910-3226, Attn: SRGs.

FOR FURTHER INFORMATION CONTACT: Shannon Bettridge, Office of Protected Resources, 301-427-8402, Shannon.Bettridge@noaa.gov. Information about the SRGs, including the SRG Terms of Reference, is available at http://www.nmfs.noaa.gov/pr/sars/group.htm.

SUPPLEMENTARY INFORMATION:

Section 117(d) of the MMPA (16 U.S.C. 1386(d)) directs the Secretary of Commerce to establish three independent regional SRGs to advise the Secretary (authority delegated to NMFS). The Alaska SRG advises on marine mammals that occur in waters off Alaska that are under the jurisdiction of the United States. The Pacific SRG advises on marine mammals that occur in waters off the U.S. West Coast, Hawaiian Islands, and the U.S. Territories in the Central and Western Pacific that are under the jurisdiction of the United States. The Atlantic SRG advises on marine mammals that occur in waters off the Atlantic coast, Gulf of Mexico, and U.S. Territories in the Caribbean that are under the jurisdiction of the United States.

SRGs members are highly qualified individuals with expertise in marine mammal biology and ecology, population dynamics and modeling, commercial fishing technology and practices, and stocks taken under section 101(b) of the MMPA. The SRGs provide expert reviews of draft marine mammal stock assessment reports and other information related to the matters identified in section 117(d)(1) of the MMPA, including:

A. Population estimates and the population status and trends of marine mammal stocks;

B. Uncertainties and research needed regarding stock separation, abundance, or trends, and factors affecting the distribution, size, or productivity of the stock;

C. Uncertainties and research needed regarding the species, number, ages, gender, and reproductive status of marine mammals;

D. Research needed to identify modifications in fishing gear and practices likely to reduce the incidental mortality and serious injury of marine mammals in commercial fishing operations;

E. The actual, expected, or potential impacts of habitat destruction, including marine pollution and natural environmental change, on specific marine mammal species or stocks, and for strategic stocks, appropriate conservation or management measures to alleviate any such impacts; and

F. Any other issue which the Secretary or the groups consider appropriate.

SRG members collectively serve as independent advisors to NMFS and the U.S. Fish and Wildlife Service and provide their expert review and recommendations through participation in the SRG. Members attend annual meetings and undertake activities as independent persons providing expertise in their subject areas. Members are not appointed as representatives of professional organizations or particular stakeholder groups, including government entities, and are not permitted to represent or advocate for those organizations, groups, or entities during SRG meetings, discussions, and deliberations.

SRG membership is voluntary, and, except for reimbursable travel and related expenses, service is without pay. The term of service for SRG members is three years, and members may serve up to three consecutive terms if reappointed.

NMFS annually reviews the expertise available on the SRG and identifies gaps in the expertise that is needed to provide advice pursuant to section 117(d) of the MMPA. In conducting the reviews, NMFS attempts to achieve, to the maximum extent practicable, a balanced representation of viewpoints among the individuals on each SRG.

Expertise Solicited

For the Atlantic SRG (including waters off the Atlantic coast, Gulf of Mexico, and U.S. Territories in the Caribbean), NMFS seeks individuals with expertise in one or more of the following areas: Fishing gear and practices, particularly for fisheries in the U.S. mid-Atlantic and southeast (trap/pot and gillnet fisheries), Gulf of Mexico (shrimp trawl fishery), and maritime Canada; quantitative ecology, modeling, population dynamics, statistics, and/or biometry; species-habitat associations; conservation; and Gulf of Mexico oceanic marine mammal species.

For the Pacific SRG (including waters off the Pacific coast, Hawaiian Islands and the U.S. Territories in the Central and Western Pacific), NMFS seeks individuals with expertise in one or more of the following areas: Quantitative ecology, population dynamics, modeling, and statistics; abundance estimation, especially distance sampling and mark-recapture methods and survey design; passive acoustics; oceanography; West Coast fishing gear/techniques; large whales, particularly with regard to entanglement issues; pinnipeds; and sea otters.

For the Alaska SRG, NMFS seeks individuals with expertise in one or more of the following areas, in order of priority: The Alaska commercial fishing industry and commercial fishery methods/gear, particularly fisheries with marine mammal bycatch and/or ecological interactions; pinnipeds; quantitative ecology, population dynamics, modeling, and statistics; abundance estimation, especially distance sampling and mark-recapture methods and survey design; and acoustics. Knowledge of the MMPA and processing of marine mammal stock assessments would be helpful but not essential.

Submitting a Nomination

Nominations for new members should be sent to Dr. Shannon Bettridge in the NMFS Office of Protected Resources (see ADDRESSES) and must be received by July 24, 2017. Nominations should be accompanied by the individual's curriculum vitae and detailed information regarding how the recommended person meets the minimum selection criteria for SRG members (see below). Nominations should also include the nominee's name, address, telephone number, and email address. Self-nominations are acceptable.

Selection Criteria

Although the MMPA does not explicitly prohibit Federal employees from serving as SRG members, NMFS interprets MMPA section 117(d)'s reference to the SRGs as “independent” bodies that are exempt from Federal Advisory Committee Act requirements to mean that SRGs are intended to augment existing Federal expertise and are not composed of Federal employees or contractors. Therefore, NMFS will not consider any nominee who is currently a Federal employee or a full-time contractor supporting a Federal agency.

When reviewing nominations, NMFS, in consultation with the U.S. Fish and Wildlife Service, will consider the following six criteria:

(1) Ability to make time available for the purposes of the SRG;

(2) Knowledge of the species (or closely related species) of marine mammals in the SRG's region;

(3) Scientific or technical achievement in a relevant discipline, particularly the areas of expertise identified above, to be considered an expert peer reviewer for the topic;

(4) Demonstrated experience working effectively on teams;

(5) Expertise relevant to current and expected needs of the SRG, in particular, expertise required to provide adequate review and knowledgeable feedback on current or developing stock assessment issues, techniques, etc. In practice, this means that each member should have expertise in more than one topic as the species and scientific issues discussed in SRG meetings are diverse; and

(6) No conflict of interest with respect to their duties as a member of the SRG.

Next Steps

Following review, nominees who are identified by NMFS as potential new members must be vetted and cleared in accordance with Department of Commerce policy. NMFS will contact these individuals and ask them to provide written confirmation that they are not registered Federal lobbyists or registered foreign agents, and to complete a confidential financial disclosure form, which will be reviewed by the Ethics Law and Programs Division within the U.S. Department of Commerce's Office of General Counsel. All nominees will be notified of a selection decision in advance of the 2018 SRG meetings.

Dated: June 16, 2017.
Donna S. Wieting,
Director, Office of Protected Resources, National Marine Fisheries Service.

[FR Doc. 2017-12986 Filed 6-21-17; 8:45 am]

BILLING CODE 3510-22-P